DEPARTMENT OF HEALTH AND HUMAN SERVICES

Centers for Disease Control and Prevention

[Program Announcement 02003]

Community-Based Participatory Prevention Research; Notice of Availability of Funds

A. Purpose

The Centers for Disease Control and Prevention (CDC) announces the availability of fiscal year (FY) 2002 funds for a grant program for the Office of Extramural Prevention Research. This program addresses the “Healthy People 2010” focus area, Educational and Community-Based Programs. It is also related to the Department of Health and Human Services Strategic Plan Goal 6: “Strengthen the nation's health sciences research enterprise and enhance its productivity through the Prevention Research Initiative.”

The purpose of the program is to stimulate investigator-initiated participatory research on community-based approaches to prevention. Findings from these projects should advance the practice of public health and policy in order to promote health and reduce disease, disability, and injury. Specifically, this announcement seeks to support multi-disciplinary, multi-level, participatory research that will enhance the capacity of communities and population groups to address health promotion and the prevention of disease, disability and injury.

Multi-level research involves interventions directed at two or more levels, such as individual, family, neighborhood, organizational, broader community (e.g., city, county, state), environmental and/or policy or legislative levels. Community refers to populations that may be defined by geography, race, ethnicity, gender, sexual orientation, or disability or other health conditions, or to groups that have a common interest or cause, such as health or service agencies and organizations, practitioners, policy makers, or lay public groups with public health concerns.

Participatory research involves collaboration with the community being studied, at least in formulating the research questions and in interpreting and applying research findings, and, if the community so chooses, in selecting methods and analyzing data. This announcement is not limited to any particular model of participatory research.

While the direction of the research must be guided by the expressed needs and interests of the community engaged in the study, this program is especially targeted to supporting cross-cutting research (i.e., research that considers interventions or methods that would now or in the future be applicable to more than one health condition).

B. Eligible Applicants

Applications may be submitted by public and private nonprofit organizations and by governments and their agencies; that is, universities, colleges, research institutions, hospitals, other public and private nonprofit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations.

Note: Title 2 of the United States Code section 1611 states that an organization described in section 501(c)(4) of the Internal Revenue Code that engages in lobbying activities is not eligible to receive Federal funds constituting an award, grant, or loan.

Additional applicant requirements are:

1. A principal investigator who has conducted research, published the findings in peer-reviewed journals, and has specific authority and responsibility to carry out the proposed project.

2. Demonstrated experience (on the applicant's project team) in conducting, evaluating, and publishing prevention research in peer-reviewed journals.

3. Effective and well-defined working relationships within the performing organization and with partnering communities (including public health agencies) that will ensure implementation of the proposed activities.

4. The overall match between the applicant's proposed theme and research objectives, and the program's interests as described under the heading “Programmatic Interests.”

C. Availability of Funds

Approximately $13,000,000 is available in FY 2002 to fund approximately 30 awards. It is expected that the average award will be $450,000, ranging from $400,000 to $500,000. It is expected that the awards will begin on or about September 30, 2002, and will be made for a 12-month budget period within a project period of up to three years. Funding estimates may change.

Continuation awards within an approved project period will be made on the basis of satisfactory progress as evidenced by required reports and the availability of funds.

D. Program Requirements

1. Recipient Requirements

In conducting activities to achieve the purpose of this program, the recipient will be responsible for the following activities:

Specifically, because these projects are participatory and community-based and embrace both research and its application, program applicants are expected to maximize opportunities for information exchange between institutional researchers and community members (even if the institutional researchers are also community members). Additionally, applicants are required to provide “Measures of Effectiveness” that will demonstrate the accomplishment of the various identified objectives of the grant. Measures must be objective/quantitative and must measure the intended outcome. These Measures of Effectiveness (1) shall be submitted with the application and shall be an element of evaluation, and (2) shall be a data requirement to be submitted with or incorporated into the periodic progress reports. As part of this program, applicants must generate, on at least an annual basis, reports for community members that describe progress, community input and involvement, research project implementation, and relevant findings. Such reports must use plain language and accessible formats (e.g., print, Web, and readable from the Web by assistive technology, as specified by section 508 of the Workforce Rehabilitation Act), so as to be easily comprehended and critiqued by community members. Applicants must budget for production and broad dissemination of such reports.

2. Programmatic Interests

Prevention research can be divided into phases that extend from (a) basic and descriptive research, to (b) intervention development and testing for efficacy and effectiveness, through (c) research on dissemination, translation to other populations or health issues, and implementation of interventions found to be effective, to (d) research on development and maintenance of supportive policies and environments, to (e) research to develop and validate surveillance and evaluation methods and other mechanisms to monitor the health of the public and the quality and impact of public health programs, services, or other interventions. The main foci of this announcement are items (c), (d), and (e).

Applicants should use the Guide to Community Preventive Services¹ as documentation of the need to test effectiveness of a specific population-based public health intervention. Applicants should also consult guidelines on participatory research, such as those provided at http://www.ihpr.ubc.ca/guidelines.html, and the campus-community partnership principles at http://futurehealth.ucsf.edu/ccph/principles.html#principles.

¹ Task Force on Community Preventive Services. Introducing the Guide to Community Preventive Services: Methods, first recommendations, and expert commentary. American Journal of Preventive Medicine 2001;18(1S).

Multi-disciplinary, multi-level, participatory research into prevention approaches that address complex health issues common to communities and population groups might include (but are not limited to) descriptive, methodological, experimental, or quasi-experimental studies such as:

a. Research on how to enhance working relationships between researchers and community organizations (representing practitioners, policy makers, or diverse lay public groups with public health concerns), to promote appropriate, tailored, and effective public health practice and/or the development or enforcement of sound public health law or policy. For example, a descriptive retrospective case study might examine the factors that appear to account for the successful or unsuccessful efforts of one or more communities in forming coalitions to bring about changes in local ordinances related to providing healthful food choices in cafeterias and vending machines in public schools. A quasi-experimental study might compare multiple community coalitions prospectively as they undertake such efforts with or without state or federal support. A methodological study might aim to identify and validate objective indicators of successful and unsuccessful community coalitions for use in survey instruments, surveillance, or evaluation.

b. Research on combining previously tested elements to produce multi-component, multi-level interventions that can improve health outcomes more efficiently; address social, environmental, and economic determinants of health; and/or reach more diverse populations.

c. Research on disseminating, translating (adapting), and applying effective, locally appropriate, and affordable interventions within or across communities defined by geography, interests, profession, race, ethnicity, gender, sexual orientation, or other health condition.

d. Research on developing new methods for enhancing surveillance, needs assessments, setting of priorities, program delivery, monitoring, evaluation, dissemination of information, translation of research, and/or distance learning including new uses of information technology.

e. Research on how to increase productive participation of practitioners, policy makers, citizens and/or lay leaders in defining the research questions, conducting and analyzing the research, and interpreting and applying the research findings.

f. Research on how to build the capacity of organizations to mobilize community resources to achieve disease and disability prevention and health promotion.

g. Research on how to strengthen public health systems and services, public health infrastructure, and the community's readiness to respond effectively to threats or occurrences of disaster.

h. Research on institutionalizing or sustaining programs and/or collaborative relationships beyond their demonstration funding.

E. Content

1. Letter of Intent (LOI)

A non-binding LOI is requested for this program. The narrative should be no more than one, double-spaced page, printed on one side, with one inch margins, and unreduced font. It should identify the announcement number, name of the proposed project director, name of the organization, descriptive title of the proposed research, and a brief description of the proposed project. Your letter of intent will be used to allow CDC to determine the level of interest in the announcement and to plan the review more efficiently.

2. Applications

Use the information in the Program Requirements, Other Requirements, and Evaluation Criteria sections of this announcement to develop the application content. Your application will be evaluated on the criteria listed, so it is important to follow them in laying out your program plan. The narrative should be no more than 25 double-spaced pages, printed on one side, with one inch margins, and unreduced font.

The grant applications should include:

a. Justification of the research needs and explanation of the scientific basis for the research, the expected outcome, and the relevance of the findings to preventing disease, injury, and disability, and promoting health.

b. Specific, measurable, and explicitly scheduled objectives.

c. A detailed plan describing the methods by which the objectives will be achieved, including their sequence. A comprehensive evaluation plan is an essential component of the application.

d. A description of the roles and responsibilities of the principal investigator and all co-investigators.

e. A description of all project staff and their roles in the proposed research, regardless of their funding source. The description should include their titles, qualifications, experience, and responsibilities in the proposed research; percentage of time each will devote to the research; and the portion of their salaries to be paid by the grant.

f. A description of any activities related to, but not supported by, the grant.

g. A description of how the specified community groups, organizations, and other entities will be involved in the proposed research. The description should include a clear statement of their roles. Letters of support from each group, organization, and entity should be included in the Appendices.

h. A detailed first year's budget for the grant with projections for two additional years, if applicable.

The original application must include specific salary and fringe benefit amounts for individuals; however, applicant organizations have the option of omitting specific salary and fringe benefit amounts for individuals from the copies of the application that are made available to outside reviewing groups. To exercise this option: On the original and five copies of the application, the applicant must use asterisks to indicate those individuals for whom salaries and fringe benefits are not shown, but the subtotals must still be shown.

F. Submission and Deadline

Letter of Intent (LOI)

On or before March 20, 2002, submit the requested LOI to the Grants Management Specialist identified in the “Where to Obtain Additional Information” section of this announcement.

Application

Submit the original and five copies of PHS-398 (OMB Number 0925-0001) (adhere to the instructions on the Errata Instruction Sheet for PHS 398). Forms are available in the application kit and at the following Internet address: www.cdc.gov/od/pgo/forminfo.htm.

In addition to sending the original and five copies of the proposal, please also enclose a copy of the proposal on a 3.5 diskette in WordPerfect, Word, or ASCII format. If you have access to an electronic version of PHS-398 (OMB Number 0925-0001), please include electronic forms on the diskette. If you do not have access or capability to use an electronic version, please ensure that the following items in narrative format are included on your diskette: Abstract, Biographical Sketches, Research Plan (items A-I as required in PHS-398), and Other Support Pages. Label the diskette with your name, operating system, software, and proposal title (example: John Doe, DOS, WordPerfect 6, Engaging the Community in Securing Emergency Preparedness). If the title is too long, please truncate.

On or before April 30, 2002, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late: Applications which do not meet the criteria in 1.or 2. above will be returned to the applicant.

G. Evaluation Criteria

Application

Upon receipt, applications will be reviewed by CDC staff to assure that they are complete and comply with the section on Eligible Applicants. Incomplete applications and applications that are not in compliance will be returned to the applicant without further consideration. Applications that are complete and in compliance will be further evaluated by a dual peer review process.

The First Stage of the Peer Review Process

In the first stage of this process, applications will be evaluated by a Special Emphasis Panel (SEP) of researchers external to CDC who are known for their expertise in prevention research and participatory research.

Each application will be subjected initially to a streamlined review by the SEP to determine if the application is of sufficient technical and scientific merit to warrant further review. Applications judged to be noncompetitive will be withdrawn from further consideration and CDC will promptly notify the principal investigator/program director and the official signing for the applicant organization.

Competitive applications will undergo full review by the SEP and will be scored against the following criteria:

1. Significance—Does this study address an important problem related to the research goals outlined in the Purpose and Programmatic Interests sections of this document? If the aims of the application are achieved, how would scientific knowledge be advanced? What would be the effect of this study on the concepts and methods that drive this field?

2. Approach—Are the conceptual framework, design (including composition of study population), methods, and analyses adequately developed, well-integrated, and appropriate to the aims of the project? Does the applicant acknowledge potential problem areas and consider alternative tactics?

3. Innovation—Does the project employ novel concepts, approaches, or methods? Are the aims original and innovative? Does the project challenge existing paradigms or develop new methodologies that can serve as models for future research?

4. Investigator—Is the investigator appropriately trained and well suited to carry out this work? Is the work proposed appropriate to the experience level of the principal investigator and other researchers, if any?

5. Environment—Does the scientific environment in which the work will be done contribute to the probability of success? Do the proposed experiments take advantage of unique features of the scientific environment or employ useful collaborative arrangements? Is there documentation of cooperation from necessary participants in the project, where applicable? Is there evidence of institutional support and availability of resources necessary to perform the project?

6. Human Subjects—If human subjects are involved, does the applicant adequately address the requirements of 45 CFR part 46 for the protection of human subjects? (Not scored; however, an application can be disapproved if the research risks are sufficiently serious and protection against risks is so inadequate as to make the entire application unacceptable.)

7. The degree to which the applicant has met the CDC Policy requirements regarding the inclusion of women, ethnic, and racial groups in the proposed research. This includes:

a. The proposed plan for the inclusion of both sexes and racial and ethnic minority populations for appropriate representation.

b. The proposed justification when representation is limited or absent.

c. A statement as to whether the design of the study to measure differences when warranted.

d. A statement as to whether the plans for recruitment and outreach for study participants include the process of establishing partnerships with community(ies) and recognition of mutual benefits.

8. In addition to the above criteria, all applications will be reviewed with respect to the following:

a. Extent of community sanction/liaison. Rationale for selection of the targeted community and documentation of health needs and risk factors. Evidence of access to, interaction with, and participation of the community in development and conduct of the project. Establishment of collaborative interactions among all project participants. Extent to which the design demonstrates sensitivity to cultural and socioeconomic factors in the community where the public health program or problem resides.

b. Demonstration of effective communication channels between researchers and the community.

c. Plans for useful and practical dissemination of project activities and findings within the affected program(s). Active involvement of at least one community partner is a minimal requirement for responsiveness to this program announcement.

d. Appropriateness of the proposed budget, including that of the community partner(s), and project duration in relation to the project's objectives.

e. Attempt to reduce health disparities by targeting various socioeconomic, racial, and ethnic groups.

The Second Stage of the Peer Review Process A second programmatic review will be conducted by a chartered committee or a panel of senior federal officials. Awards will made based on the priority score ranking determined by the peer review panel and the availability of funds.

H. Other Requirements

Technical Reporting Requirements

Provide CDC with original plus two copies of

1. Annual progress reports. These reports should be a maximum of five pages in length and should include a discussion, in plain language, of any changes made to the research plan from the funded proposal, progress to date, community input and involvement, project implementation, and relevant findings.

2. Annual “Measures of Effectiveness” reports for CDC. Annual reports that describe and evaluate progress toward objective/quantitative measures of effectiveness that demonstrate the accomplishment of the various identified objectives of the grant. These reports should be submitted to CDC with the annual progress reports.

3. Annual (or more frequent) reports for community members that describe progress, community input and involvement, project implementation, and relevant findings. Such reports must be in plain language and accessible formats, so as to be easily comprehended and critiqued by community members. These reports should be submitted to CDC with the annual progress reports.

4. Financial status report, no more than 90 days after the end of each budget period; and

5. Final financial and performance reports, no more than 90 days after the end of the project period.

Send all reports to the Grants Management Specialist identified in the “Where to Obtain Additional Information” section of this announcement.

The following additional requirements are applicable to this program. For a complete description of each, see Attachment I of the announcement.

AR-1 Human Subjects Requirements

AR-2 Requirements for Inclusion of Women and Racial and Ethnic Minorities in Research

AR-4 HIV/AIDS Confidentiality Provisions

AR-5 HIV Program Review Panel Requirements

AR-7 Executive Order 12372 Review

AR-8 Public Health System Reporting Requirements

AR-10 Smoke-Free Workplace Requirements

AR-11 Healthy People 2010

AR-12 Lobbying Restrictions

AR-15 Proof of Non-Profit Status

AR-22 Research Integrity

I. Authority and Catalog of Federal Domestic Assistance Number

This program is authorized under section 301 of the Public Health Service Act, [42 U.S.C. 241], as amended. The Catalog of Federal Domestic Assistance number is 93.283.

J. Where To Obtain Additional Information

This and other CDC announcements can be found on the CDC home page Internet address— http://www.cdc.gov. Click on “Funding” then “Grants and Cooperative Agreements.”

To receive additional written information and to request an application kit, call 770-488-2740. You will be asked to leave your name and address and will be instructed to identify the Program Announcement number of interest.

If you have questions after reviewing the contents of all the documents, business management technical assistance may be obtained from:

Juanita Crowder, Grants Management Specialist, Grants Management Branch, Procurement and Grants Office, Centers for Disease Control and Prevention, 2920 Brandywine Road, Room 3000, Atlanta, GA 30341, Telephone number 770-488-2734, E-mail address: jcrowder@cdc.gov.

For program technical assistance, contact: Cheryl A. Coble, Program Analyst, Office of Extramural Prevention Research, Public Health Practice Program Office, Centers for Disease Control and Prevention, 4770 Buford Highway, MS K-56, Atlanta, GA 30341, Telephone number 770-488-8027, E-mail address: ccoble@cdc.gov.

Dated: February 14, 2002.
Rebecca B. O'Kelley,
Chief, International Grants and Contracts Branch, Procurement and Grants Office, Centers for Disease Control and Prevention (CDC).

[FR Doc. 02-4110 Filed 2-20-02; 8:45 am]

BILLING CODE 4163-18-P